DEPARTMENT OF TRANSPORTATION

Federal Aviation Administration

14 CFR Part 39

[Docket No. FAA-2010-0233; Directorate Identifier 2009-NM-014-AD]

RIN 2120-AA64

Airworthiness Directives; Lockheed Martin Corporation/Lockheed Martin Aeronautics Company Model 382, 382B, 382E, 382F, and 382G Airplanes

AGENCY: Federal Aviation Administration (FAA), DOT.

ACTION: Notice of proposed rulemaking (NPRM).

SUMMARY: We propose to adopt a new airworthiness directive (AD) for all Model 382, 382B, 382E, 382F, and 382G airplanes. This proposed AD would require repetitive eddy current inspections to detect cracks in the center wing upper and lower rainbow fittings, and corrective actions if necessary; and repetitive replacements of rainbow fittings, which would extend the repetitive interval for the next inspection. This proposed AD results from a report of fatigue cracking of the wing upper and lower rainbow fittings during durability testing and on in-service airplanes. Analysis of in-service cracking has shown that these rainbow fittings are susceptible to multiple site fatigue damage. We are proposing this AD to detect and correct such fatigue cracks, which could grow large and lead to the failure of the fitting and a catastrophic failure of the center wing.

DATES: We must receive comments on this proposed AD by May 7, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Lockheed Martin Corporation/Lockheed Martin Aeronautics Company, Airworthiness Office, Dept. 6A0M, Zone 0252, Column P-58, 86 S. Cobb Drive, Marietta, Georgia 30063; telephone 770-494-5444; fax 770-494-5445; e-mail ams.portal@lmco.com; Internet http://www.lockheedmartin.com/ams/tools/TechPubs.htmlx. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Carl Gray, Aerospace Engineer, Airframe Branch, ACE-117A, FAA, Atlanta Aircraft Certification Office (ACO), 1701 Columbia Avenue, College Park, Georgia 30337; telephone (404) 474-5554; fax (404) 474-5606.

SUPPLEMENTARY INFORMATION:

Comments Invited

We invite you to send any written relevant data, views, or arguments about this proposed AD. Send your comments to an address listed under the ADDRESSES section. Include “Docket No. FAA-2010-0233; Directorate Identifier 2009-NM-014-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

Fatigue cracking of the wing upper and lower rainbow fittings during the durability test and on in-service airplanes indicates a requirement to perform inspections prior to the current published Hercules Airfreighter Series Progressive Inspection Procedures and Hercules Airfreighter Progressive Inspection Procedures intervals. Analysis of in-service cracking has shown that these rainbow fittings are susceptible to multiple site fatigue damage. This condition, if not corrected, could lead to the failure of the rainbow fittings and a catastrophic failure of the center wing.

Relevant Service Information

We have reviewed Lockheed Service Bulletin 382-57-82, Revision 3, including Appendixes A, B, and C, dated April 25, 2008. The service bulletin describes procedures for repetitive eddy current inspections to detect cracks in the center wing upper and lower rainbow fittings. The service bulletin specifies marking and reporting suspected cracks but does not provide corrective actions.

The service bulletin also describes procedures for repetitively replacing the upper and lower rainbow fittings, which would extend the interval for the next eddy current inspection. The replacement includes related investigative and corrective actions. The related investigative actions consist of two types of inspections: (1) A general visual inspection for damage and defects (including corrosion and cracking) of the wing faying structure; and (2) a primary automated bolt hole eddy current (ABHEC) inspection to detect cracks of all opened fitting attachment fastener holes in the upper and lower surface skin panel, stringers, splice straps, and splice angles that are common to the rainbow fittings prior to installing the new rainbow fitting. The service bulletin describes procedures for a “redundant” (backup) ABHEC inspection of any suspected damage.

The corrective actions consist of repairing confirmed damage within certain limits, and contacting the manufacturer for damage that exceeds those limits. The service bulletin provides no corrective actions for damage or defects found during the visual inspection.

FAA's Determination and Requirements of This Proposed AD

We are proposing this AD because we evaluated all relevant information and determined the unsafe condition described previously is likely to exist or develop in other products of the same type design. This proposed AD would require accomplishing the actions specified in the service information described previously, except as discussed under “Differences Between the Proposed AD and Service Bulletin.” The proposed AD would also require sending the inspection results to Lockheed.

Differences Between the Proposed AD and Service Bulletin

In Lockheed Service Bulletin 382-57-82, Revision 3, dated April 25, 2008, the NOTE in paragraph 1.B.(1) states that operators who have completed a Lockheed Martin usage evaluation analysis may adjust the intervals provided in the service bulletin by severity factors developed for their inspection programs. The proposed AD would require approval of an alternative method of compliance (AMOC) for such an adjustment.

Although the service bulletin specifies that operators may contact the manufacturer for disposition of certain repair conditions and the service bulletin does not specify corrective actions for damage or cracking found during the visual inspection, this proposed AD would require operators to repair those conditions using a method approved by the FAA.

Although the service bulletin does not specify corrective actions for airplanes on which cracking is found during the eddy current inspections, this proposed AD would require operators to replace the rainbow fittings if any cracking is found.

Lockheed Service Bulletin 382-57-82, Revision 3, dated April 25, 2008, also recommends grounding airplanes that have accumulated 20,000 or more flight hours until inspections are done. We have provided a grace period of 365 days or 600 flight hours after the effective date of this AD in paragraph (g)(2) of this AD to prevent grounding the fleet. This time period does not present a safety concern since this area is already being inspected at a repetitive interval and the inspection to this point would have found cracks as intended. We find that the short initial inspection period provided in the proposed AD provides an adequate level of safety.

Interim Action

We consider this proposed AD interim action. If final action is later identified, we might consider further rulemaking then.

Costs of Compliance

We estimate that this proposed AD would affect 14 airplanes of U.S. registry. The following table provides the estimated costs for U.S. operators to comply with this proposed AD.

Table—Estimated Costs
Action | Work hours | Average labor rate per hour | Parts | Cost per airplane | Number of U.S.-registered airplanes | Fleet cost
Inspection | 20 | $85 | None | $1,700 per inspection cycle | 14 | $23,800 per inspection cycle.
Fitting replacement | 2,438 | $85 | $40,000 | $247,230 | 14 | $3,461,220

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Lockheed Martin Corporation/Lockheed Martin Aeronautics Company: Docket No. FAA-2010-0233; Directorate Identifier 2009-NM-014-AD.

Comments Due Date

(a) We must receive comments by May 7, 2010.

Affected ADs

(b) None.

Applicability

(c) This AD applies to all Lockheed Martin Corporation/Lockheed Martin Aeronautics Company Model 382, 382B, 382E, 382F, and 382G airplanes, certificated in any category.

Subject

(d) Air Transport Association (ATA) of America Code 57: Wings.

Unsafe Condition

(e) This AD results from a report of fatigue cracking of the wing upper and lower rainbow fittings during durability testing and on in-service airplanes. Analysis of in-service cracking has shown that these rainbow fittings are susceptible to multiple site fatigue damage. The Federal Aviation Administration is issuing this AD to detect and correct such fatigue cracks, which could grow large and lead to the failure of the fitting and a catastrophic failure of the center wing.

Compliance

(f) You are responsible for having the actions required by this AD performed within the compliance times specified, unless the actions have already been done.

Initial Inspections

(g) At the later of the times specified in paragraphs (g)(1) and (g)(2) of this AD: Do eddy current inspections to detect cracking of the center wing upper and lower rainbow fittings on the left and right side of the airplane. Do the actions in accordance with the Accomplishment Instructions of Lockheed Service Bulletin 382-57-82, Revision 3, including Appendixes A and B, dated April 25, 2008. Any cracks found during the inspections required by paragraph (g) of this AD must be repaired before further flight in accordance with the actions required by paragraph (l) of this AD.

(1) Before the accumulation of 15,000 total flight hours on the rainbow fitting.

(2) Within 365 days or 600 flight hours on the rainbow fitting after the effective date of this AD, whichever occurs first.

Repetitive Inspection Schedule

(h) Repeat the inspection required by paragraph (g) of this AD at intervals not to exceed 3,600 flight hours on the center wing, until the rainbow fitting has accumulated 30,000 total flight hours. Any cracks found during the inspections required by paragraph (h) of this AD must be repaired before further flight in accordance with the actions required by paragraph (l) of this AD.

Rainbow Fitting Replacements

(i) Before the accumulation of 30,000 flight hours on the rainbow fitting or within 600 flight hours after the effective date of this AD, whichever occurs later: Replace the rainbow fitting, do all related investigative actions, and do all applicable corrective actions, in accordance with paragraph 2.C. of the Accomplishment Instructions of Lockheed Service Bulletin 382-57-82, Revision 3, including Appendix C, dated April 25, 2008. Replace the rainbow fitting thereafter at intervals not to exceed 30,000 flight hours.

Post-Replacement Repetitive Inspections

(j) For upper and lower rainbow fittings replaced in accordance with paragraph (i) or (k) of this AD: Do the eddy current inspections specified in paragraph (g) of this AD within 15,000 flight hours after doing the replacement and repeat the eddy current inspections specified in paragraph (h) of this AD thereafter at intervals not to exceed 3,600 flight hours until the rainbow fittings are replaced in accordance with paragraph (i) or (k) of this AD.

Repair of Damaged Rainbow Fittings and Associated Areas

(k) If, during any inspection required by paragraph (g) or (h) of this AD, any crack is detected, before further flight, replace the rainbow fitting, do all related investigative actions and do all applicable corrective actions, in accordance with Paragraph 2.C. of the Accomplishment Instructions of Lockheed Service Bulletin 382-57-82, Revision 3, including Appendix C, dated April 25, 2008, except as provided by paragraph (l) of this AD.

Exceptions to Service Bulletin

(l) Where Lockheed Service Bulletin 382-57-82, Revision 3, including Appendixes A, B, and C, dated April 25, 2008, specifies to contact the manufacturer for disposition of certain repair conditions, and where the service bulletin does not specify corrective actions if certain conditions are found, this AD requires repairing those conditions using a method approved by the Manager, Atlanta Aircraft Certification Office (ACO), FAA. For a repair method to be approved by the Manager, Atlanta ACO, as required by this paragraph, the Manager's approval letter must specifically refer to this AD.

Alternative Methods of Compliance (AMOCs)

(m)(1) The Manager, Atlanta ACO, FAA, has the authority to approve AMOCs for this AD, if requested using the procedures found in 14 CFR 39.19. Send information to ATTN: Carl Gray, Aerospace Engineer, Airframe Branch, ACE-117A, FAA, Atlanta Aircraft Certification Office, 1701 Columbia Avenue, College Park, Georgia 30337; telephone (404) 474-5554; fax (404) 474-5606.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Issued in Renton, Washington, on March 17, 2010.
Ali Bahrami,
Manager, Transport Airplane Directorate, Aircraft Certification Service.

[FR Doc. 2010-6307 Filed 3-22-10; 8:45 am]

BILLING CODE 4910-13-P